DEPARTMENT OF COMMERCE

International Trade Administration

[A-588-054] [A-588-604]

Tapered Roller Bearings, Four Inches or Less in Outside Diameter, and Components Thereof, from Japan, and Tapered Roller Bearings and Parts Thereof, Finished and Unfinished, From Japan: Final Court Decisions and Amended Final Results of Antidumping Duty Administrative Reviews

AGENCY: Import Administration, International Trade Administration, Department of Commerce.

ACTION: Notice of Final Court Decisions and Amended Final Results of Antidumping Duty Administrative Reviews.

SUMMARY: On April 27, 1998, the Department of Commerce (the Department) published the final results of its administrative reviews of the antidumping finding on TRBs, four inches or less in outside diameter, and components thereof, from Japan (A-588-054) and the antidumping duty order on tapered roller bearings (TRBs) and parts thereof, finished and unfinished, from Japan (A-588-604) for the period October 1, 1993 through September 30, 1994.¹ See Tapered Roller Bearings and Parts Thereof, Finished and Unfinished, From Japan, and Tapered Roller Bearings, Four Inches or Less in Outside Diameter, and Components Thereof, From Japan; Final Results of Antidumping Duty Administrative Reviews and Termination in Part, 63 FR 20585 (April 27, 1998) (1993-94 TRBs from Japan). Subsequent to our publication of these final results, parties to the proceedings challenged certain aspects of our final results before the United States Court of International Trade (the CIT) and, in certain instances, before the United States Court of Appeals for the Federal Circuit (the Federal Circuit).

¹ These final results also covered the period October 1, 1992 through September 30, 1993 (1992-93 period of review) for one respondent, Koyo Seiko Co. Ltd.

The CIT recently affirmed our final remand results with respect to 1993-94 TRBs from Japan, and the time for appeal has lapsed. See Koyo Seiko Co., Ltd. and Koyo Corporation of USA; NSK Ltd. and NSK Corporation; NTN Bearing Corporation of America, American NTN Bearing Manufacturing Corporation and NTN Corporation; The Timken Company v. United States, Consol. Court No. 98-06-02274, Slip Op. 02-96 (CIT August 22, 2002) (Koyo II). Although one party, NTN Bearing Corporation of America, American NTN Bearing Manufacturing Corporation and NTN Corporation (collectively NTN), appealed certain aspects of 1993-94 TRBs from Japan before the Federal Circuit, the Federal Circuit dismissed this appeal on April 4, 2003 pursuant to the parties' agreement. As there are now final and conclusive court decisions with respect to litigation for these parties, we are hereby amending our final results of review and have instructed the U. S. Bureau of Customs and Border Protection (BCBP) to liquidate entries subject to these reviews.

EFFECTIVE DATE: June 27, 2003.

FOR FURTHER INFORMATION CONTACT: Deborah Scott at (202) 482-2657 or Robert James at (202) 482-0649, Antidumping and Countervailing Duty Enforcement Group III, Office Eight, Import Administration, International Trade Administration, U.S. Department of Commerce, 14th Street and Constitution Avenue, NW, Washington, DC 20230.

SUPPLEMENTARY INFORMATION:

Background

Below is a summary of the litigation for the 1993-1994 final results² for which the CIT and Federal Circuit have issued final and conclusive decisions.

² These final results also covered the period October 1, 1992 through September 30, 1993 for one respondent, Koyo Seiko Co. Ltd.

On April 27, 1998, we published in the Federal Register our notice of the final results of administrative reviews for the 1993-94 period of review (POR) for four manufacturers/exporters and ten resellers/exporters subject to the A-588-054 finding, and five manufacturers/exporters and ten resellers/exporters subject to the A-588-604 order (see 1993-94 TRBs from Japan). These final results also covered the 1992-93 POR for one manufacturer/exporter subject to both the A-588-054 finding and A-588-604 order. Subsequent to the publication of these final results, the petitioner (The Timken Co. (Timken)) and three respondents, Koyo Seiko Co., Ltd. and Koyo Corporation of USA (collectively Koyo), NSK Ltd. and NSK Corporation (collectively NSK), and NTN, challenged various aspects of our final results before the CIT. See Koyo Seiko Co., Ltd. and Koyo Corporation of USA; NSK Ltd. and NSK Corporation; NTN Bearing Corporation of America, American NTN Bearing Manufacturing Corporation and NTN Corporation; and The Timken Company v. United States, Consol. Court No. 98-06-02274, Slip Op. 02-11 (CIT February 1, 2002) (Koyo I). In accordance with the CIT's order in Koyo I, we recalculated the antidumping margins for Koyo, NSK, and NTN for subject merchandise entered between October 1, 1993 through September 30, 1994, and the antidumping margins for Koyo for subject merchandise entered between October 1, 1992 and September 30, 1993. The CIT then affirmed the Department's remand results in Koyo II. Subsequent to Koyo II, NTN challenged one aspect of the CIT's decision before the Federal Circuit. See Koyo Seiko Co., Ltd. and Koyo Corporation of USA; NSK Ltd. and NSK Corporation; NTN Bearing Corporation of America, NTN Corporation, and American NTN Bearing Manufacturing Corporation v. United States and The Timken Company, Federal Circuit Court No. 03-1060 (Koyo CAFC). The CIT and Federal Circuit have issued decisions with respect to this litigation which are now final and conclusive.

The decisions issued by the CIT and Federal Circuit with respect to the Department's final results were as follows:

• Koyo I, Consol. Ct. No. 98-06-02274, Slip Op. 02-11 (CIT 2002). The CIT remanded the case to the Department to: (1) deduct Koyo's home market movement expenses from home market gross unit price for the purpose of calculating CV profit; (2) recalculate Koyo's marine insurance expenses for sales of further-processed merchandise using the correct factor reported by Koyo; (3) recalculate Koyo's CV using the commission factor provided by Koyo; (4) recalculate Koyo's CV direct selling expenses using the factor reported in Koyo's questionnaire response; (5) make corrections to programming language related to Koyo's product nomenclature; (6) recalculate Koyo's U.S. inventory carrying costs (ICCs) for sales of further-processed merchandise by applying the appropriate ICC factors to the landed cost for the 1992-93 POR and the appropriate ICC factors to the cost of manufacture (COM) for the 1993-94 POR; (7) apply the correct general and administrative (G&A) expense factor in the calculation of NSK's cost of production (COP); and (8) correct a programming error with respect to NTN's sales by applying the revised indirect selling expense ratio only to NTN's purchase price sales.

• Koyo II, Consol. Ct. No. 98-06-02274, Slip Op. 02-96 (CIT August 22, 2002). The CIT affirmed the Department's remand results and dismissed the litigation for Consol. Court No. 98-06-02274.

• Koyo CAFC, No. 03-1060 (Fed. Cir. April 4, 2003). Pursuant to the parties' agreement, the Federal Circuit dismissed NTN's appeal of the CIT's decision in the 98-06-02274 litigation.

As there are now final and conclusive court decisions with respect to the 98-06-02274 litigation, we are amending our final results of review for Koyo, NSK and NTN based on our recalculation of each respondent's rates pursuant to the remand. The amended final results margins for Koyo are 37.80 percent and 29.94 percent for 1992-93 and 1993-94, respectively, in the A-588-054 review and 38.76 percent and 40.49 percent for 1992-93 and 1993-94, respectively, in the A-588-604 review. The amended final results margins for NSK are 11.24 percent in the A-588-054 review and 12.78 percent in the A-588-604 review. The amended final results margin for NTN in the A-588-604 review is 21.97 percent.³ We have issued instructions to BCBP to liquidate entries of subject merchandise made by Koyo, NSK and NTN during the relevant periods pursuant to these amended final results.

³ The A-588-054 antidumping finding does not cover TRBs manufactured by NTN.

In addition, as we have not amended the margins of any of the remaining manufacturers/resellers/exporters subject to the 1993-94 administrative reviews of TRBs from Japan, we have issued instructions to BCBP to liquidate entries of subject merchandise based on the rates published in 1993-94 TRBs from Japan.

AMENDMENT TO FINAL DETERMINATIONS

Pursuant to 19 U.S.C. 1516(f), we are now amending the final results of the 1993-94 administrative reviews of the antidumping finding and duty order on TRBs from Japan. The amended weighted-average margins are:

For the A-588-054 Review:
Manufacturer/Exporter | Period of Review | Weighted-Average Margin (%): Original: | Weighted-Average Margin (%): Revised:
Koyo Seiko | 10/1/1992 - 9/30/1993 | 38.07 | 37.80
Koyo Seiko | 10/1/1993 - 9/30/1994 | 35.27 | 29.94
NSK | 10/1/1993 - 9/30/1994 | 11.25 | 11.24

For the A-588-604 Review:
Manufacturer/Exporter | Period of Review | Weighted-Average Margin (%): Original: | Weighted-Average Margin (%): Revised:
Koyo Seiko | 10/1/1992 - 9/30/1993 | 40.12 | 38.76
Koyo Seiko | 10/1/1993 - 9/30/1994 | 41.04 | 40.49
NSK | 10/1/1993 - 9/30/1994 | 12.78 | 12.78
NTN | 10/1/1993 - 9/30/1994 | 20.80 | 21.97

Accordingly, the Department has determined and BCBP has assessed appropriate antidumping duties on entries of the subject merchandise made by firms covered by the review of the periods listed above. The Department has issued assessment instructions directly to BCBP.

Dated: June 4, 2003.
Joseph A. Spetrini,
Acting Assistant Secretary for Import Administration.

[FR Doc. 03-16340 Filed 6-26-03; 8:45 am]

BILLING CODE 3510-DS-S